DEPARTMENT OF TRANSPORTATION

Federal Aviation Administration

14 CFR Part 73

[Docket No. FAA-2002-13525; Airspace Docket No. 02-AWP-08]

RIN 2120-AA66

Amendment to Using Agency for Restricted Area 2301W Ajo West, AZ

AGENCY: Federal Aviation Administration (FAA), DOT.

ACTION: Final rule.

SUMMARY: This action changes the using agency of R-2301W, Ajo West, AZ. On August 12, 2002, the United States Air Force (USAF) and United States Marine Corps (USMC) requested that the FAA change the using agency for R-2301W from “U.S. Air Force, 58th Fighter Wing Luke AFB, AZ,” to “Commanding Officer, USMC Air Station, Yuma, AZ,” to reflect an administrative change of responsibility for the restricted area. This action responds to this request and does not change the boundaries; designated altitudes; time of designation; or activities conducted within the affected restricted area.

EFFECTIVE DATE: 0901 UTC, January 23, 2003.

FOR FURTHER INFORMATION CONTACT: Ken McElroy, Airspace and Rules Division, ATA-400, Office of Air Traffic Airspace Management, Federal Aviation Administration, 800 Independence Avenue, SW., Washington, DC 20591; telephone: (202) 267-8783.

SUPPLEMENTARY INFORMATION:

The Rule

This action amends title 14 Code of Federal Regulations (CFR) part 73 by changing the using agency of R-2301W, Ajo West, AZ. On August 12, 2002, the USAF and USMC requested that the FAA change the using agency for R-2301W from, “U.S. Air Force, 58th Fighter Wing Luke AFB, AZ,” to “Commanding Officer, USMC Air Station, Yuma, AZ,” to reflect an administrative change of responsibility for the restricted area. This action is an administrative change and does not affect the current boundaries; designated altitudes; time of designation; or activities conducted within the affected restricted area. Therefore, notice and public procedures under 5 U.S.C. 553(b) are unnecessary.

The FAA has determined that this action only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The coordinates for this airspace docket are based on North American Datum 83. Section 73.22 of part 73 of the Federal Aviation Regulations was republished in FAA Order 7400.8J, dated September 20, 2001.

Environmental Review

The FAA has determined that this action qualifies for categorical exclusion under the National Environmental Policy Act in accordance with FAA Order 1050.1D, Policies and Procedures for Considering Environmental Impacts. This airspace action is not expected to cause any potentially significant environmental impacts, and no extraordinary circumstances exist that warrant preparation of an environmental assessment.

List of Subjects in 14 CFR Part 73

Airspace, Navigation (air).

Adoption of the Amendment

In consideration of the foregoing, the Federal Aviation Administration amends 14 CFR part 73, as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.23 [Amended]

2. § 73.23 is amended as follows:

* * * * *

R-2301W [Amended]

By removing the words “Using agency. U.S. Air Force, 58th Fighter Wing Luke AFB, AZ,” and inserting the words “Using agency. Commanding Officer, USMC Air Station, Yuma, AZ.”

* * * * *

Issued in Washington, DC, October 29, 2002.
Reginald C. Matthews,
Manager, Airspace and Rules Division.

[FR Doc. 02-28365 Filed 11-6-02; 8:45 am]

BILLING CODE 4910-13-P